DEPARTMENT OF JUSTICE

Notice of Lodging of Partial Consent Decree Under the Comprehensive Environmental Response, Compensation, and Liability Act

Notice is hereby given that on January 8, 2001, a proposed Partial Consent Decree in United States v. American Scrap Company, et al., Civil Action No. 1:99-CV-2047, was lodged with the United States District Court for the Middle District of Pennsylvania.

In this action, the United States seeks the reimbursement of response costs in connection with the Jack's Creek/Sitkin Smelting Superfund Site in Mifflin County, Pennsylvania (“the Site”), pursuant to the Comprehensive Environmental Response, Compensation and Liability Act (“CERCLA”), 42 U.S.C. 9601 et seq. The Partial Consent Decree resolves the United States' claims against Konica Graphic Imaging, Inc. (“Konica”) for response costs incurred as a result of the release or threatened release of hazardous substances at the Site. Konica will pay the United States $60,127.90. The Partial Consent Decree will not resolve the United States' claims against the remaining defendants in the litigation.

The Department of Justice will receive for a period of thirty (30) days from the date of this publication comments relating to the Partial Consent Decree. Comments should be addressed to the Assistant Attorney General of the Environment and Natural Resources Division, Department of Justice, P.O. Box 7611, Washington, DC 20044, and should refer to United States v. American Scrap Company, et al., D.J. Ref. 90-11-2-911/1.

The Partial Consent Decree may be examined at the Office of the United States Attorney, Middle District of Pennsylvania, Federal Building, 228 Walnut Street, Suite 220, Harrisburg, PA 17108, or at the Region III Office of the Environmental Protection Agency, 1650 Arch Street, Philadelphia, Pennsylvania 19103. A copy of the Partial Consent Decree may also be obtained by mail by requesting a copy from the Department of Justice Consent Decree Library, P.O. Box 7611, Washington, DC 20044-7611. In requesting a copy, please enclose a check in the amount of $4.25 (17 pages at 25 cents per page reproduction cost) payable to the Consent Decree Library.

Walker Smith,
Deputy Chief, Environmental Enforcement Section, Environment and Natural Resources Division.

[FR Doc. 01-1734 Filed 1-19-01; 8:45 am]

BILLING CODE 4410-15-M